DEPARTMENT OF STATE

[Public Notice: 7194]

Department of State Performance Review Board Members

In accordance with section 4314(c)(4) of 5 United States Code, the Department of State has appointed the following individuals to the Department of State Performance Review Board for Senior Executive Service members: James H. Thessin, Chairperson, Deputy Legal Adviser, Office of the Legal Adviser, Department of State; Tracy H. Mahaffey, Executive Director, Bureau of Diplomatic Security, Department of State; Joseph A. Mussomeli, Ambassador, Department of State; Wanda L. Nesbitt, Ambassador, Department of State; and Khushali P. Shah, Chief of Staff, Office of the Director of U.S. Foreign Assistance, Department of State.

Dated: September 27, 2010.
Nancy J. Powell,
Director General of the Foreign Service and Director of Human Resources, Department of State.

[FR Doc. 2010-25336 Filed 10-6-10; 8:45 am]

BILLING CODE 4710-15-P